DEPARTMENT OF ENERGY

Federal Energy Regulatory Commission

[Docket No. AD20-18-000]

Offshore Wind Integration in RTOs/ISOs; Notice Inviting Post-Technical Conference Comments

On October 27, 2020, Federal Energy Regulatory Commission (Commission) staff convened a technical conference to discuss whether and how existing transmission planning, interconnection, and merchant transmission facility frameworks in Regional Transmission Organizations/Independent System Operators (RTOs/ISOs) can accommodate anticipated growth in offshore wind generation in an efficient and cost-effective manner that safeguards open access transmission principles, and to consider possible changes or improvements to the current frameworks should they be needed to accommodate such growth.

All interested persons are invited to file post-technical conference comments on the questions listed in the attachment to this Notice. Commenters need not answer all of the questions but are encouraged to organize responses using the numbering and sequencing in the attached questions. Commenters may also respond to the questions outlined in the October 22, 2020 supplemental notice of technical conference.¹ Commenters need not answer all of the questions included in the October 22, 2020 notice, but, to the extent that commenters respond to any of those questions, please utilize the question numbering included in that notice. In addition, commenters are invited to reference material previously filed in this docket, including the technical conference transcript and submitted opening remarks, but are encouraged to avoid repetition or replication of previous material. Comments must be submitted on or before 60 days from the date of this Notice.

¹ Supplemental Notice of Technical Conference, Docket No. AD20-18-000 (October 22, 2020), https://www.ferc.gov/sites/default/files/2020-10/AD20-18-000-Tech-Conf-Errata.pdf.

Comments may be filed electronically via the internet. See 18 CFR 385.2001(a)(1)(iii) and the instructions on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE, Washington, DC 20426.

For more information about this Notice, please contact:

David Rosner (Technical Information), Office of Energy Policy and Innovation, (202) 502-8479, david.rosner@ferc.gov.

Rishi Garg (Legal Information), Office of the General Counsel, (202) 502-8667, rishi.garg@ferc.gov.

Dated: March 11, 2021.
Nathaniel J. Davis, Sr.,
Deputy Secretary.

[FR Doc. 2021-05495 Filed 3-16-21; 8:45 am]

BILLING CODE 6717-01-P